DEPARTMENT OF ENERGY

Notice of Intent To Prepare an Environmental Impact Statement for a Proposed Federal Loan Guarantee To Support Construction of Phase II of the Mid-Atlantic Power Pathway Transmission Line Project, in Maryland and Delaware

AGENCY: Department of Energy, Loan Programs Office.

ACTION: Notice of Intent to Prepare an Environmental Impact Statement and Conduct Public Scoping Meetings; Notice of Proposed Floodplain Action.

SUMMARY: The U.S. Department of Energy (DOE) announces its intent to prepare an Environmental Impact Statement (EIS) (DOE/EIS-0465), pursuant to the National Environmental Policy Act of 1969, as amended (NEPA), the Council on Environmental Quality (CEQ) NEPA regulations, and the DOE NEPA implementing procedures, to assess the potential environmental impacts of its proposed action of issuing a Federal loan guarantee to Pepco Holdings, Inc. (PHI). Potomac Electric Power Company (Pepco) and Delmarva Power & Light Company (Delmarva), both subsidiaries of PHI, submitted an application to DOE under the Federal loan guarantee program pursuant to the Energy Policy Act of 2005 (EPAct 2005) to support construction of Phase II of the Mid-Atlantic Power Pathway (MAPP) transmission line project. PHI proposes to develop Phase II of the MAPP project, an approximately 100-mile electric transmission line from the Chalk Point Substation in Prince George's County, Maryland, to the Indian River Substation in Sussex County, Delaware, using a High Voltage Direct Current (HVDC) transmission system.

The EIS will evaluate the potential environmental impacts of the issuance of a DOE Loan Guarantee for PHI's proposed MAPP project and the range of reasonable alternatives.

The purposes of this Notice of Intent are to inform the public about DOE's proposed action, invite public participation in the EIS process, announce plans for public scoping meetings, and solicit public comments for consideration in establishing the scope and content of the EIS. DOE hereby provides notice of a proposed action located in part in a floodplain and that DOE will include a floodplain assessment in the EIS.

DOE invites those agencies with jurisdiction by law or special expertise to be cooperating agencies.

DATES: The public scoping period will begin with publication of this Notice of Intent and end on April 4, 2011. To ensure that all of the issues related to this proposal are addressed, DOE invites comments on the proposed scope and content of the EIS from all interested parties. Comments must be postmarked or e-mailed by April 4, 2011 to ensure consideration. Late comments will be considered to the extent practicable.

ADDRESSES: Public comments can be submitted electronically or by U.S. Mail. Written comments on the proposed EIS scope should be signed and addressed to the NEPA Document Manager for this project: Mr. Doug Boren, Loan Programs Office (LP-10), U.S. Department of Energy, 1000 Independence Avenue, SW., Washington, DC 20585. Electronic submission of comments is encouraged due to processing time required for regular mail. Comments can be submitted electronically by sending an e-mail to: MAPP-EIS@hq.doe.gov. All electronic and written comments should reference DOE/EIS-0465.

DOE will conduct three public scoping meetings in the vicinity of the proposed MAPP project at which government agencies, private-sector organizations, and the general public are invited to provide comments or suggestions with regard to the alternatives and potential impacts to be considered in the EIS. The date, time, and location of the public scoping meetings will be announced in local news media and on the DOE Loan Programs Office “NEPA Public Involvement” Web site (http://www.lgprogram.energy.gov/NEPA_PI.html) and the DOE NEPA Website “Public Participation” Calendar (http://nepa.energy.gov/calendar.htm) at least 15 days prior to the date of the meetings.

FOR FURTHER INFORMATION CONTACT: To obtain additional information about this EIS, the public scoping meetings, or to receive a copy of the draft EIS when it is issued, contact Doug Boren by telephone: 202-287-5346; or electronic mail: Douglas.Boren@hq.doe.gov. For general information on the DOE NEPA process, please contact: Ms. Carol M. Borgstrom, Director, Office of NEPA Policy and Compliance (GC-54), U.S. Department of Energy, 1000 Independence Avenue, SW., Washington, DC 20585; telephone: 202-586-4600; facsimile: 202-586-7031; electronic mail: askNEPA@hq.doe.gov; or leave a toll-free message at 800-472-2756.

Additional information is available on the DOE Loan Programs Office “NEPA Public Involvement” Web site (http://www.lgprogram.energy.gov/NEPA_PI.html) and the DOE NEPA Web site (http://nepa.energy.gov/).

SUPPLEMENTARY INFORMATION:

Background

EPAct 2005 established a Federal loan guarantee program for eligible energy projects that employ innovative technologies. Title XVII of EPAct 2005 authorizes the Secretary of Energy to make loan guarantees for a variety of types of projects, including those that “avoid, reduce, or sequester air pollutants or anthropogenic emissions of greenhouse gases; and employ new or significantly improved technologies as compared to commercial technologies in service in the United States at the time the guarantee is issued.” The two principal goals of the loan guarantee program are to encourage commercial use in the United States of new or significantly improved energy-related technologies and to achieve substantial environmental benefits. On June 30, 2008, the DOE Loan Guarantee Program Office issued a solicitation for projects employing energy efficiency, renewable energy, and advanced transmission and distribution technologies that constitute New or Significantly Improved Technologies. Pepco and Delmarva submitted an application to DOE for a loan guarantee in February 2009, to support construction of Phase II of the MAPP project.

Phase II of the MAPP project would incorporate new smart grid technology that includes an HVDC system; microprocessor-based relays; digital fault recorders; and phasor measurement units. The smart grid technology to be incorporated into the MAPP project would promote the transmission of energy over the line more efficiently and gives PJM Interconnection, L.L.C. (PJM), the area electric grid operator, additional control over power flows and power stability in the eastern portion of PJM. The project would provide a solution to critical reliability and congestion issues triggered by limited transmission capacity in PJM.

Due to the number of jurisdictions within PJM with Renewable Portfolio Standards, the future amount of renewable energy generation within PJM is expected to increase. By reducing grid congestion and increasing grid efficiency, the MAPP project enables the potential expansion of clean energy sources and renewables into the system, and may allow for the decommissioning of older electric generation units.

Purpose and Need for Agency Action

The purpose and need for action by DOE is to comply with its mandate under EPAct 2005 by selecting eligible projects that meet the goals of the Act, as summarized above. The EIS will inform DOE's decision whether to issue a loan guarantee to PHI to support the construction of the proposed MAPP project.

Proposed Action

DOE's proposed action is to issue a loan guarantee to PHI to support construction of Phase II of the MAPP project. Phase II of the MAPP project can be separated into four segments. The first segment is a proposed 500 kilovolt (kV) alternating current (AC) transmission line from the existing Chalk Point Substation, in Prince George's County, Maryland, crossing the Patuxent River to a proposed AC-to-direct current (DC) converter station (Chestnut Converter) in Calvert County, Maryland. This segment is approximately 10.6 miles long and would be installed overhead within an existing transmission line right-of-way (ROW).

The second segment would be from the Chestnut Converter station to a proposed converter station (Gateway Converter) in Wicomico County, Maryland. Segment two would consist of two, 320 kV, DC transmission circuits and would be installed underground within existing ROW in Calvert County and then under the Chesapeake Bay and the Choptank River, and would cross the Delmarva Peninsula overhead through Dorchester County, Maryland, to the Gateway Converter in Wicomico County, Maryland. The Calvert County underground portion of the circuits will be approximately 2.6 miles long and the submarine crossing of the bay and river would be approximately 39 miles. Once this segment makes landfall in Dorchester County, Maryland, it would be installed underground for approximately one mile and then overhead for approximately 14 miles, crossing the Nanticoke River near the town of Vienna, Maryland, before ending at the proposed Gateway Converter. This entire segment would be located within new transmission line ROW.

Segment three consists of one of the two DC circuits continuing overhead past the Gateway Converter in Wicomico County to a proposed converter station (Mission Converter) in Sussex County, Delaware. This segment would be approximately 26 miles, installed above ground, and located within an existing transmission line ROW.

Segment four is a 230 kV AC overhead transmission line constructed between the proposed Mission Converter and the existing Indian River Substation in Sussex County, Delaware. This segment would be located within existing ROW and is approximately 6 miles in length. In addition, segment four would also include two approximately 1-mile 230 kV AC overhead transmission lines to be constructed between the proposed Mission Converter and an existing transmission line to the south. These 1-mile transmission lines would be installed on applicant owned property but would include new transmission structures. Additional project descriptions and project location maps (depicting the proposed route by county) may be found on the applicant's Web site at http://www.powerpathway.com.

Alternatives

DOE currently plans to analyze in detail the MAPP project proposed by PHI and the No Action alternative. As appropriate, DOE will also analyze alternatives to portions of the project, such as alternative routes and river crossings, which could lessen or avoid impacts to affected resources and mitigation measures.

Under the No Action alternative, DOE would not provide the loan guarantee to PHI. In this case, PHI may have difficulty obtaining financing for the MAPP project, which may result in a delay or cancellation of the project. Although PHI may still pursue the project without the loan guarantee, for purposes of this NEPA analysis, the No Action alternative will be a no project or no build scenario.

Notice of Floodplain Involvement

DOE hereby provides notice of a proposed DOE action in a floodplain pursuant to DOE Floodplain and Wetland Environmental Review Requirements (10 CFR Part 1022). Portions of the proposed project cross the Patuxent River, the Chesapeake Bay, the Choptank River, the Nanticoke River and other water bodies, and their associated floodplains along the entire length of the proposed transmission line. DOE will prepare a floodplain assessment as required by DOE regulations and include it in the EIS. Interested parties may comment during the scoping period following the publication of this NOI and will also be able to comment on the floodplain assessment when the Draft EIS is published.

Preliminary Identification of Environmental Issues

DOE has tentatively identified the following environmental resource areas for consideration in the EIS. This list is not intended to be all-inclusive nor to predetermine the potential environmental impacts or their significance:

Air quality

Greenhouse gas emissions and climate change

Energy use and production

Water resources, including groundwater and surface waters

Wetlands and floodplains

Geological resources

Ecological resources, including threatened and endangered species and species of special concern

Cultural resources, including historic structures and properties; sites of religious and cultural significance to Tribes; and archaeological resources

Land use

Coastal zone management

Visual resources and aesthetics

Transportation and traffic

Noise and vibration

Hazardous materials and solid waste management

Human health and safety

Accidents and terrorism

Socioeconomics, including impacts to community services

Environmental justice

DOE invites comments on whether additional resource areas or potential issues should be considered in the EIS.

Public Scoping Process

To ensure that all issues related to DOE's proposed action are addressed, DOE seeks public input to define the scope of the EIS. Interested government agencies, private-sector organizations, and the general public are encouraged to submit comments concerning the content of the EIS, issues and impacts that should be addressed, and alternatives that should be considered. Scoping comments should clearly describe specific issues or topics that the EIS should address to assist DOE in identifying significant issues for analysis.

DOE has coordinated with Federal and state agencies in the project area and expects that the United States Army Corps of Engineers will be a cooperating agency for the preparation of this EIS. DOE invites any additional agencies with jurisdiction by law or special expertise to be cooperating agencies in the preparation of this EIS.

The public scoping meetings will be announced as described in the DATES and ADDRESSES sections above. Members of the public and representatives of groups and Federal, state, local, and Tribal agencies are invited to attend. The meetings will include both a formal opportunity to present oral comments and an informal session during which DOE and PHI personnel will be available for discussions. Displays and other information about the proposed agency action, the EIS process, and PHI's proposed MAPP project will be available. Individuals who wish to make oral comments during one of the scoping meetings may register at the meeting. To ensure that everyone who wishes to has a turn to speak, DOE may need to limit speakers to three to five minutes initially, but will provide additional opportunities as time permits. Written comments may be submitted to DOE officials at the scoping meetings.

Issued in Washington, DC, on February 28, 2011.
Owen Barwell,
Acting Executive Director, Loan Programs Office.

[FR Doc. 2011-4878 Filed 3-3-11; 8:45 am]

BILLING CODE 6450-01-P